DEPARTMENT OF TRANSPORTATION

Federal Aviation Administration

[Policy Statement No. ANM-115-05-005]

Policy Statement on Acceptance of a Component Method To Demonstrate Compliance With § 25.562(c)(2) for placement Seat Bottom Cushions

AGENCY: Federal Aviation Administration (FAA), DOT.

ACTION: Notice of proposed policy; request for comments.

SUMMARY: The Federal Aviation Administration (FAA) announces the availability of proposed policy on a component method for demonstrating that a seat with a replacement bottom cushion complies with § 25.562(c)(2). This policy addresses non-flotation monolithic (single layer) cushions.

DATES: Send your comments on or before May 11, 2005.

ADDRESSES: Address your comments to the individual identified under FOR FURTHER INFORMATION CONTACT.

FOR FURTHER INFORMATION CONTACT: Michael T. Thompson, Federal Aviation Administration, Transport Airplane Directorate, Transport Standards Staff, Standardization Branch, ANM-113, 1601 Lind Avenue, SW., Renton, WA 98055-4056; telephone (425) 227-1157; fax (425) 227-1232; e-mail: Michael.t.thompson@faa.gov.

SUPPLEMENTARY INFORMATION:

Comments Invited

The proposed policy memorandum is available on the Internet at the following address: http://www.airweb.faa.gov/rgl. If you do not have access to the Internet, you can obtain a copy of the proposed policy memorandum by contacting the person listed under FOR FURTHER INFORMATION CONTACT.

The FAA invites your comments on this proposed policy memorandum. We will accept your comments, data, views, or arguments by letter, fax, or e-mail. Send your comments to the person indicated in FOR FURTHER INFORMATION CONTACT. mark your comments, “Comments to Policy Statement No. [insert memorandum number].”

Use the following format when preparing your comments:

• Organize your comments issue-by-issue.

• For each issue, state what specific change you are requesting to the proposed policy.

• Include justification, reasons, or data for each change you are requesting. We also welcome comments in support of the proposed policy.

We will consider all communications received on or before the closing date for comments. We may change the proposed policy because of the comments received.

Background

The proposed policy provides a method of demonstrating compliance with the lumbar load criteria of § 25.562(c)(2). It is based on an FAA funded research project that developed a component test methodology for demonstrating that a replacement bottom cushion would not produce a higher lumbar load than a certificated bottom cushion for a seat certificated to § 25.562(c)(2). The proposed method provides a simplified means of demonstrating compliance with § 25.562(c)(2) and will streamline the seat certification process by reducing the costs and time associated with seat certification.

Issued in Renton, Washington, on March 25, 2005.
Ali Bahrami,
Manager, Transport Airplane Directorate, Aircraft Certification Service.

[FR Doc. 05-7196 Filed 4-8-05; 8:45 am]

BILLING CODE 4910-13-M